DEPARTMENT OF ENERGY

DOE/NSF Nuclear Science Advisory Committee; Meeting

AGENCY: Office of Science, Department of Energy.

ACTION: Notice of open meeting.

SUMMARY: This notice announces a meeting of the DOE/NSF Nuclear Science Advisory Committee (NSAC). The Federal Advisory Committee Act requires that public notice of these meetings be announced in the Federal Register.

DATES: Thursday, March 18, 2021; 10:00 a.m.-4:30 p.m. (EST).

ADDRESSES: This meeting is open to the public. This meeting will be held digitally via

Zoom. Information to participate can be found on the website closer to the meeting date at: https://science.osti.gov/np/nsac/meetings.

FOR FURTHER INFORMATION CONTACT: Brenda L. May, U.S. Department of Energy; SC-26/Germantown Building, 1000 Independence Avenue SW, Washington, DC 20585-1290; Telephone: (301) 903-0536 or email: brenda.may@science.doe.gov.

SUPPLEMENTARY INFORMATION:

Purpose of the Board: The purpose of the Board is to provide advice and guidance on a continuing basis to the Department of Energy and the National Science Foundation on scientific priorities within the field of basic nuclear science research.

Tentative Agenda

Thursday, March 18, 2021

• Call to Order, Introductions, Review of the Agenda

• Perspectives from Department of Energy and National Science Foundation

• Update from the Department of Energy and National Science Foundation's Nuclear Physics Offices

• Presentation of the Mo-99 Charge

• DOE Office of Science Graduate Student Research (SCGSR) Program Presentation

• Artificial Intelligence for Nuclear Physics Presentation

• NSAC Business/Discussions

Public Participation: The meeting is open to the public. A webcast of this meeting will be available. Please check the website below for updates and information on how to view the meeting. If you would like to file a written statement with the Committee, you may do so either before or after the meeting. If you would like to make oral statements regarding any of these items on the agenda, you should contact Brenda L. May at Brenda.May@science.doe.gov. You must make your request for an oral statement at least five business days before the meeting. Reasonable provision will be made to include the scheduled oral statements on the agenda. The Chairperson of the Committee will conduct the meeting to facilitate the orderly conduct of business. Public comment will follow the 10-minute rule.

The minutes of the meeting will be available for review on the U.S. Department of Energy's Office of Nuclear Physics website at https://science.osti.gov/np/nsac/meetings.

Signed in Washington, DC, on February 16, 2021.
LaTanya R. Butler,
Deputy Committee Management Officer.

[FR Doc. 2021-03432 Filed 2-19-21; 8:45 am]

BILLING CODE 6450-01-P